DEPARTMENT OF DEFENSE

Department of the Navy

Notice of Intent To Prepare an Environmental Impact Statement for Proposed Land Acquisition for the Washington Navy Yard, Washington, District of Columbia, and To Announce Virtual Public Scoping Meetings

AGENCY: Department of the Navy (DoN), Department of Defense (DoD).

ACTION: Notice.

SUMMARY: Pursuant to the National Environmental Policy Act (NEPA) of 1969, as implemented by the Council on Environmental Quality Regulations, the DoN announces its intent to prepare an Environmental Impact Statement (EIS) to evaluate the potential environmental effects associated with the acquisition of land at the Southeast Federal Center (SEFC), for the Washington Navy Yard (WNY), Washington, District of Columbia (D.C.). The DoN is initiating a 30-day public scoping process to identify potential alternatives, information and analysis relevant to the proposed action, and to solicit input on specific resources and issues the public would like to see addressed in the EIS.

DATES: The public 30-day scoping period begins on February 18, 2022 and extends to March 21, 2022. Comments must be postmarked or submitted electronically via email no later than March 21, 2022 for consideration in the Draft EIS.

Due to current Federal and State guidance on social distancing in response to the COVID-19 pandemic, the DoN will hold two virtual public scoping meetings to receive comments on the scope of the EIS. The meetings will be held on the following days and times:

1. March 8, 2022, 6 p.m. to 8 p.m.

2. March 9, 2022, 1 p.m. to 3 p.m.

Information on how to participate in the meetings is available on the DoN website at: https://www.cnic.navy.mil/wny_land_acquisition. Notices of the virtual public scoping meetings will also be published in “The Washington Post” and through press releases.

Concurrent with the NEPA public involvement process, the DoN is conducting National Historic Preservation Act Section 106 consultations regarding potential effects of the Proposed Action on historic properties. Historic properties include districts, sites, buildings, structures, or objects listed or eligible for listing in the National Register of Historic Places. The public will have the opportunity to participate in the Section 106 process through verbal comments presented during each of the two virtual public scoping meetings, written comments mailed via U.S. Postal Service, and electronic comments via email.

ADDRESSES: The DoN invites all interested parties to submit scoping comments on the Land Acquisition for the Washington Navy Yard EIS by mail to the physical and email addresses listed in the section below. Please visit the project website at https://www.cnic.navy.mil/wny_land_acquisition for further information.

Comments may be received:

• At the virtual public meetings;

• electronically via email: NAVFACWashNEPA1@navy.mil; or

• by mail, postmarked no later than March 21, 2022 to the following address: Naval Facilities Engineering System Command Washington, Washington Navy Yard, ATTN: EIS Project Manager, 1314 Hardwood Street SE, Washington, DC 20374.

FOR FURTHER INFORMATION CONTACT: Naval Facilities Engineering Systems Command Washington, Washington Navy Yard, ATTN: Nik Tompkins-Flagg, Navy EIS Project Manager, 1314 Hardwood Street SE, Washington, DC 20374, NAVFACWashNEPA1@navy.mil, 202-685-8437.

SUPPLEMENTARY INFORMATION: The DoN proposes to obtain six acres of land on the SEFC (the SEFC E Parcels) to improve the overall antiterrorism/force protection (AT/FP) posture of the WNY. Obtaining the SEFC E Parcels would improve the WNY AT/FP posture by reducing the encroachment threat posed by existing development rights on the SEFC E Parcels, protecting mission-critical activities conducted at the WNY from encroachment and enhancing the overall safety of personnel, facilities, and infrastructure at the WNY. Obtaining the SEFC E Parcels would additionally permit increased physical security and antiterrorism mitigation measures to protect mission-critical activities from visual surveillance and acoustic and electronic eavesdropping.

After obtaining ownership of the SEFC E Parcels, the DoN proposes three alternative uses for the acquired property which support the DoN's AT/FP requirements and military mission.

An EIS is considered the appropriate document for comprehensively analyzing the proposed action to acquire land through an exchange or direct purchase and analyzing potential uses of the proposed acquired land.

The purpose of the Proposed Action is to improve the overall WNY AT/FP posture (i.e., increase physical security and antiterrorism mitigation measures), as well as protect mission-critical activities from visual surveillance and acoustic and electronic eavesdropping. The need for the Proposed Action is to protect mission-critical activities conducted at the WNY from encroachment that could result from proposed private development adjacent to the WNY northwest perimeter on SEFC E Parcels, while enhancing the overall safety of personnel, facilities, and infrastructure at the WNY.

Comprehensive AT/FP programs that integrate physical security, law enforcement, and emergency management are routinely implemented at military installations across the country. These programs also prepare military installations to plan for, defend against, and respond to terrorist incidents. Periodic evaluations of AT/FP programs are conducted to determine their effectiveness in mitigating the risk of injury, death, or damage resulting from physical security breaches and terrorist activities at military installations. Naval Facilities Engineering Systems Command (NAVFAC) Atlantic and NAVFAC Washington Structural Engineering and AT/FP Subject Matter Experts performed an AT/FP conformance evaluation of buildings in the northwest area of the WNY. This evaluation informed the DoN that acquisition of the SEFC E Parcels is recommended to protect the buildings in the northwest area of the WNY and the activities it hosts. Additionally, the DoN will analyze alternative uses for the acquired property which support the DoN's AT/FP requirements and military mission.

The DoN has identified two preliminary action alternatives, each with three sub-alternatives that meet the purpose of and need for the Proposed Action, as well as a no action alternative.

Under Alternative 1 (Land Acquisition through Land Exchange), the DoN would enter into a real estate agreement with the owner of the SEFC E Parcel development rights (“developer”) to acquire the development rights to the approximately 6.3-acre SEFC E Parcels adjacent to the northwestern perimeter of the WNY. In exchange, the DoN would transfer and/or lease underutilized assets at the southeast corner of the WNY to the developer. Concurrent with this exchange of the development rights and assets, U.S. General Services Administration (GSA) would transfer ownership of the SEFC E Parcels to the DoN through a federal-to-federal transfer. The proposed DoN use of the SEFC E Parcels that would be evaluated includes the following sub-alternatives: (a) Construct a new National Museum of the United States Navy; (b) incorporate the parcels within the WNY fence line and construct DoN administrative facilities; or (c) incorporate the parcels within the WNY fence line but leave parcels in their current underdeveloped state, with no foreseeable development planned.

Under Alternative 2 (Direct Land Acquisition), the DoN would purchase the SEFC E Parcel development rights outright from the developer and obtain the SEFC E Parcels from GSA through a federal-to-federal transfer. No land exchange would occur. The proposed DoN use of the SEFC E Parcels to be evaluated would be the same three sub-alternatives discussed under Alternative 1.

Under the No Action Alternative, the Proposed Action would not occur, and the developer could exercise its development rights to construct several multi-story buildings, up to approximately 110 feet in height, on the SEFC E Parcels. As a result, mission-critical activities would operate inconsistently with AT/FP requirements, and the safety of personnel, facilities, and infrastructure on the WNY adjacent to the SEFC E Parcels would be degraded, thereby threatening national security.

Environmental resources to be examined and addressed in the EIS include, but are not limited to: Utilities and Infrastructure; Cultural Resources; Construction Noise; Geological Resources; Air Quality; Water Resources; Land Use/Zoning; Transportation; Socioeconomics; Environmental Justice; Hazardous Materials and Waste; and Cumulative Effects. The EIS will also analyze measures that would avoid or mitigate environmental effects.

The DoN will confer or consult with: The U.S. Air Force; White House Communications Agency; U.S. Environmental Protection Agency; Advisory Council on Historic Preservation; National Park Service; National Capital Area; National Capital Parks—East; DC State Historic Preservation Office; DC Department of Transportation; DC Department of Energy and Environment; DC Office of Planning; National Capital Planning Commission; U.S. Commission on Fine Arts; GSA; Advisory Neighborhood Commissions; Capitol Hill Restoration Society; and Capitol Riverfront Business Improvement District regarding this Proposed Action. Identification of other agencies and/or community groups during public scoping is possible. The DoN will conduct all coordination and consultation activities required by the National Historic Preservation Act.

The DoN encourages interested persons to submit comments concerning potential alternatives, information and analysis for study in the EIS. Federal and local agencies, and interested persons are encouraged to provide comments to the DoN to identify specific environmental resources or topics of environmental concern that the DoN should consider when developing the Draft EIS. Additionally, the DoN encourages interested persons to submit comments concerning historic resources under Section 106 of the NHPA. All comments received during the public scoping period will be considered during the Draft EIS preparation.

Additional opportunities for public comment will occur after the release of the Draft EIS. The DoN anticipates releasing the Draft EIS October 2022, a Final EIS in March 2023, and a Record of Decision by April 2023.

Dated: February 15, 2022.
J.M. Pike,
Commander, Judge Advocate General's Corps, U.S. Navy, Federal Liaison Officer.

[FR Doc. 2022-03632 Filed 2-17-22; 8:45 am]

BILLING CODE 3810-FF-P